DEPARTMENT OF STATE

[Public Notice: 12926]

Notice of Department of State Sanctions Action

ACTION: Notice.

SUMMARY: The U.S. Department of State is publishing the names of persons who have been added to the Department of the Treasury's List of Specially Designated Nationals and Blocked Persons (SDN List), administered by the Office of Foreign Assets Control (OFAC).

DATES: This action was issued on April 30, 2025. See SUPPLEMENTARY INFORMATION section for applicable dates.

FOR FURTHER INFORMATION CONTACT: Aaron P. Forsberg, Director, Office of Economic Sanctions Policy and Implementation, Bureau of Economic and Business Affairs, Department of State, Washington, DC 20520, tel.: (202) 647 7677, email: ForsbergAP@state.gov.

SUPPLEMENTARY INFORMATION:

Electronic Availability

The SDN List and additional information concerning sanctions programs are available on OFAC's website, https://ofac.treasury.gov/sanctions-programs-and-country-information/iran-sanctions.

Notice of Department of State Actions

On April 30, 2025, the Department of State, in consultation with other departments, as appropriate, determined that the property and interests in property subject to U.S. jurisdiction of the following persons are blocked under the relevant sanctions authority listed below.

Entities

Designated pursuant to section 3(a)(ii) of E.O. 13846, for knowingly engaging in a significant transaction for the purchase, acquisition, sale, transport, or marketing of petroleum or petroleum products from Iran.

Vessels

8. ELOISE (TRAD8) Crude Oil Tanker Gabon flag; Vessel Year of Build 2002; Vessel Registration Identification IMO 9233234; MMSI 626143000 (vessel) [IRAN-EO13846] (Linked To: VROOM MARINE VENTURE FZE).

Identified as property in which VROOM MARINE VENTURE FZE, an entity designated pursuant to E.O. 13846, has an interest.

9. OLIA (TRBO9) Crude Oil Tanker Unknown flag; Former Vessel Flag Gabon; Secondary sanctions risk: See Section 11 of Executive Order 14024.; alt. Secondary sanctions risk: Ukraine-/Russia-Related Sanctions Regulations, 31 CFR 589.201 and/or 589.209; Vessel Year of Build 2003; Vessel Registration Identification IMO 9268112; MMSI 626450000 (vessel) [UKRAINE-EO13662] [IRAN-EO13846] [RUSSIA-EO14024] (Linked To: ARISTOS MARITIME INCORPORATED; Linked To: VROOM MARINE VENTURE FZE).

Identified as property in which VROOM MARINE VENTURE FZE, an entity designated pursuant to E.O. 13846, has an interest.

Hugo Y. Yon,
Principal Deputy Assistant Secretary, Bureau of Economic and Business Affairs, U.S. Department of State.

[FR Doc. 2026-02101 Filed 2-2-26; 8:45 am]

BILLING CODE 4710-07-P